DEPARTMENT OF ENERGY

Federal Energy Regulatory Commission

[Project No. 10852-007]

Richard Bertea; Notice of Termination of License (Minor Project) By Implied Surrender and Soliciting Comments and Protests

Take notice that the following hydroelectric proceeding has been initiated by the Commission:

a. Type of Proceeding: Termination of license by implied surrender

b. Project No.: 10852-007

c. Date Initiated: April 1, 2015

d. Licensee: Richard Bertea

e. Name and Location of Project: The Ace Ranch Project, located on the West Fork Carson River in Alpine County, California.

f. Filed Pursuant to: Standard Article 16

g. Licensee Contact Information: Mr. Richard Bertea, 369 San Miguel Dr. Suite 300 Newport Beach, CA 92660, (714) 640-1982.

h. FERC Contact: M. Joseph Fayyad, (202) 502-8759, mo.fayyad@ferc.gov

i. Deadline for filing comments and protests is 30 days from the issuance date of this notice by the Commission. Please file your submittal electronically via the Internet (eFiling) in lieu of paper. Please refer to the instructions on the Commission's Web site under http://www.ferc.gov/docs-filing/efiling.asp and filing instructions in the Commission's Regulations at 18 CFR 385.2001(a)(1)(iii). To assist you with eFilings you should refer to the submission guidelines document at http://www.ferc.gov/help/submission-guide/user-guide.pdf. In addition, certain filing requirements have statutory or regulatory formatting and other instructions. You should refer to a list of these “qualified documents” at http://www.ferc.gov/docs-filing/efiling/filing.pdf. You must include your name and contact information at the end of your comments. Please include the project number (10852-007) on any documents or motions filed. The Commission strongly encourages electronic filings; otherwise, you should submit an original and seven copies of any submittal to the following address: The Secretary, Federal Energy Regulatory Commission, Mail Code: DHAC, PJ-12, 888 First Street NE., Washington, DC 20426.

j. Description of Project Facilities: (a) An existing diversion dam on the West Fork Carson River with a headgate structure; (b) the Heimsoth Upper West Ditch, discharging into (c) an irrigation-stock pond; (d) a 5-foot-high concrete intake box with a fish-debris screen; (e) two 850-foot-long penstocks, one 8 inches and one 16 inches in diameter; (f) a 28-foot by 12-foot wood frame powerhouse containing two generating units rated at 80-kilowatts and 15-kilowatts, operating under a head of 130 feet; (g) an 800-foot-long, 480-volt underground transmission line, connecting to the reversible ranch meter, the point of connection with the existing Sierra Pacific Power Company line; and (h) related facilities.

k. Description of Proceeding: The licensee is in violation of Article 16 of its license, which was granted November 30, 1990 (53 FERC ¶ 62,202). Article 16 states in part: If the Licensee shall abandon or discontinue good faith operation of the project or refuse or neglect to comply with the terms of the license and the lawful orders of the Commission, the Commission will deem it to be the intent of the Licensee to surrender the license.

Commission records indicate that the project was transferred to Mr. Richard Bertea by a Commission order issued May 6, 1991 (55 FERC ¶ 62,108). Since that time, the licensee (Mr. Bertea) has sold the project to Bently Family Limited Partnership around January 1999, without getting our approval for a transfer of license. Since then, the project stopped operating around the end of 1999. The Commission's San Francisco Regional Office has had several correspondences with the new owner and requested a plan and schedule to return the project to operation and to complete a formal request for a transfer of the license to the Bently Family Limited Partnership. Nothing was filed. On January 20, 2015, staff sent the licensee (Mr. Bertea), to his mailing address on record, a letter requiring the filing within 30 days, of an application for a transfer of license and a plan and schedule for restoring the operation of the project or an application to surrender the project's license. Staff also sent a copy of the letter to the Bently Family Limited Partnership. The letter stated that if no response is filed, the Commission will take action to terminate license by implied surrender pursuant to the Commission's regulations at 18 CFR 6.4. The letter to the licensee was returned due to lack of a forwarding address. Nothing was filed.

l. This notice is available for review and reproduction at the Commission in the Public Reference Room, Room 2A, 888 First Street NE., Washington, DC 20426. The filing may also be viewed on the Commission's Web site at http://www.ferc.gov/docs-filing/elibrary.asp. Enter the Docket number (P-10852-007) excluding the last three digits in the docket number field to access the notice. You may also register online at http://www.ferc.gov/docs-filing/esubscription.asp to be notified via email of new filings and issuances related to this or other pending projects. For assistance, call toll-free 1-866-208-3676 or email FERCOnlineSupport@ferc.gov. For TTY, call (202) 502-8659.

m. Individuals desiring to be included on the Commission's mailing list should so indicate by writing to the Secretary of the Commission.

n. Comments and Protests—Anyone may submit comments or protests in accordance with the requirements of Rules of Practice and Procedure, 18 CFR 385.210 and 385.211. In determining the appropriate action to take, the Commission will consider all protests filed. Any protests must be received on or before the specified deadline date for the particular proceeding.

o. Filing and Service of Responsive Documents—Any filing must (1) bear in all capital letters the title “COMMENTS or “PROTEST,” as applicable; (2) set forth in the heading the project number of the proceeding to which the filing responds; (3) furnish the name, address, and telephone number of the person commenting or protesting; and (4) otherwise comply with the requirements of 18 CFR 385.2001 through 385.2005. All comments or protests must set forth their evidentiary basis and otherwise comply with the requirements of 18 CFR 4.34(b). All comments or protests should relate to project works which are the subject of the termination of license. A copy of any protest must be served upon each representative of the licensee specified in item g above. A copy of all other filings in reference to this notice must be accompanied by proof of service on all persons listed in the service list prepared by the Commission in this proceeding, in accordance with 18 CFR 4.34(b) and 385.2010.

p. Agency Comments—Federal, state, and local agencies are invited to file comments on the described proceeding. If any agency does not file comments within the time specified for filing comments, it will be presumed to have no comments.

Dated: April 1, 2015.
Kimberly D. Bose,
Secretary.

[FR Doc. 2015-07925 Filed 4-6-15; 8:45 am]

BILLING CODE CODE 6717-01-P